DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of October 2005.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.)(increased imports) and (a)(2)(B)(II.B) (No shift in production to a foreign country) have not been met.

TA-W-57,904A; Luhr Jensen and Sons, Inc., Smoker Products Division, Oak Grove Plant, Hood River, OR.

TA-W-57,975; TRW Automotive, Linkage, Suspension & Cast Products Division, Kingsway Plant, Fremont, OH.

The investigation revealed that criteria (a)(2)(A)(I.B.)(Sales or production, or both, did not decline) and (a)(2)(B)(II.B) (No shift in production to a foreign country) have not been met.

None

The investigation revealed that criterion (a)(2)(A)(I.A) and (a)(2)(B)(II.A) (no employment decline) has not been met.

TA-W-57,814; Leviton Manufacturing, Southern Devices Division, Morganton, NC.

TA-W-57,927; Hamtech, Inc., Big Rapids, MI.

TA-W-57,995; Hostmann—Steinberg, Pittsburgh Office, Hostmann-Steinberg, Pittsburgh, PA.

The workers firm does not produce an article as required for certification under Section 222 of the Trade Act of 1974.

TA-W-57,956; Modern Vending Company, At Fruit of the Loom, Jamestown, KY.

TA-W-58,038; Teradyne, Inc., Waltham Sales Office, Semiconductor Test Division, Waltham, MA.

TA-W-58,098; Northwest Airlines, Inc., Technical Operations Division, Anchorage, AK.

TA-W-57,970; Kellwood New England, Brockton, MA.

TA-W-57,974; Baltrans Global Logistics, LTD., Including Workers of ADECCO Temporary Services, Ft. Collins, CO.

TA-W-58,080; Stratex Networks, San Jose, CA.

TA-W-58,086; Total Distribution, Inc., Nitro Corporation Subdivision, Nitro, WV.

TA-W-58,130; ATA Airlines, Inc., A Subsidiary of ATA Holdings Corp., Los Angeles Maintenance, Los Angeles, CA.

TA-W-58,130A; ATA Airlines, Inc., A Subsidiary of ATA Holdings Corp., San Francisco Maintenance, San Francisco, CA.

TA-W-58,130B; ATA Airlines, Inc., A Subsidiary of ATA Holdings Corp., Denver Maintenance, Denver, CO.

TA-W-58,130C; ATA Airlines, Inc., A Subsidiary of ATA Holdings Corp., Chicago-Midway Maintenance, Chicago, IL.

TA-W-58,130D; ATA Airlines, Inc., A Subsidiary of ATA Holdings Corp., Indianapolis Maintenance, Indianapolis, IN.

TA-W-58,130E; ATA Airlines, Inc., A Subsidiary of ATA Holdings Corp., Minneapolis Maintenance, Minneapolis, MN.

TA-W-58,130F; ATA Airlines, Inc., A Subsidiary of ATA Holdings Corp., New York Maintenance, New York, NY.

TA-W-58,130G; ATA Airlines, Inc., A Subsidiary of ATA Holdings Corp., San Juan Maintenance, San Juan, PR.

TA-W-58,130H; ATA Airlines, Inc., A Subsidiary of ATA Holdings Corp., Dallas, Ft. Worth Maintenance, Dallas, TX.

TA-W-58,144; General Electric Company, Industrial Motors & Controls Customer Service, Fort Wayne, IN.

TA-W-58,156; Furukawa Electric North American APD, Inc., Plymouth, MI.

The investigation revealed that criteria (a)(2)(A)(I.C.) (Increased imports and (a)(2)(B)(II.C) (has shifted production to a foreign country) have not been met.

TA-W-58,022; Meadow River Hardwood Lumber Company, Formerly Georgia-Pacific Corp., Rainelle, WV.

57,904A; Luhr Jensen and Sons, Inc., Smoker Products Division, Oak Grove Plant, Hood River, OR.

57,975; TRW Automotive, Linkage, Suspension & Cast Products Division, Kingsway Plant, Fremont, OH.

The investigation revealed that criteria (2) has not been met. The workers firm (or subdivision) is not a supplier or downstream producer to trade-affected companies.

TA-W-57,916; GTP Greenville, Inc., Greenville, SC.

TA-W-57,961; Holyoke Card Co., Springfield, MA.

Affirmative Determinations for Worker Adjustment Assistance

The following certifications have been issued; the date following the company name and location of each determination references the impact date for all workers of such determination.

The following certifications have been issued. The requirements of (a)(2)(A) (increased imports) of Section 222 have been met.

TA-W-57,860; Beagle Brand Hosiery, Inc., Hickory, NC: August 23, 2004.

TA-W-57,904; Luhr Jensen and Sons, Inc., Fishing Tackle Division, Jentech Plant, Hood River, OR: September 7, 2004.

TA-W-57,923; Boise Cascade, d/b/a Boise Building Solutions Manufacturing, Independence, OR: September 6, 2004.

TA-W-57,944; National Tool and Manufacturing, Kenilworth, NJ: September 12, 2004.

TA-W-57,954; Wausau Paper Corp., Brokaw, WI: September 14, 2004.

TA-W-57,971; Sapko International, Inc., Tompkinsville, KY: August 30, 2004.

TA-W-57,973; Tower Automotive, Kendallville Division, Kendallville, IN: September 6, 2004.

TA-W-57,986; Bravo Sports, On-Site Leased Workers of Select Personnel, Cypress, CA: September 19, 2004.

TA-W-58,001; Lea Industries, LA-Z-Boy Greensboro, Inc., Morristown, TN: September 16, 2004.

TA-W-58,004; Pebb Manufacturing Co., Inc., Mifflintown, PA: September 15, 2004.

TA-W-58,007; West Coast Quartz Corp., Union City, CA: September 14, 2004.

TA-W-58,009; Schuessler Knitting Mills, Inc., Chicago, IL: September 1, 2004.

TA-W-58,053; LA-Z-Boy Greensboro, Inc., Lea Industries and American Drew, On-Site Leased Workers of Kelly Temporary, N. Wilkesboro, NC: September 22, 2004.

TA-W-58,069; All Best, Inc., New York, NY: September 7, 2004.

TA-W-58,147; Valley Woodworking Company, Lenoir, NC: October 17, 2004.

TA-W-58,166; Penn-Union Corp., All Seasons Placement & Volt Temporary, Edinboro, PA: November 19, 2005.

The following certifications have been issued. The requirements of (a)(2)(B) (shift in production) of Section 222 have been met.

TA-W-57,957; Dana Corporation, Jefferson Street Foundry, Perfect Circle, IBM Bus., Muskegon, MI: September 12, 2004.

TA-W-57,960; Solectron Corp., Solectron USA, Inc., Lumberton, NJ: September 14, 2004.

TA-W-57,969; Holm Industries, Inc., Manpower, PMI & Labor Ready, Scottsburg, IN: August 31, 2004.

TA-W-58,035; Eastman Kodak Company, Rochester Paper Flow Division, On-Site Leased Workers From Datros, Burns & Aec, Rochester, NY: September 26, 2004.

TA-W-58,067; Yoder Brothers, Inc., Chualar, CA: September 25, 2004.

TA-W-58,115; Amphenol Interconnect Products, Prime Time Staffing, Staff Works, Rockwall, TX: October 10, 2004.

TA-W-58,151; Carhart, Inc., Dover, TN: October 18, 2004.

TA-W-57,957A; Dana Corporation, Harvey Street Machining, IBM Bus., Muskegon, MI: September 12, 2004.

TA-W-57,957B; Dana Corporation, Machine and Tool Center, IBM Bus., Muskegon, MI: September 12, 2004.

TA-W-57,957C; Dana Corporation, Sanford Street Machining, Perfect Circle, IBM Bus., Muskegon, MI: September 12, 2004.

The following certification has been issued. The requirement of supplier to a trade certified firm has been met.

TA-W-57,977; Carolina Mills, Inc., Plant #8, Maiden, NC: October 21, 2005.

TA-W-57,997; Unifi, Inc., Dyes Business Unit, Mayoden Plant 15, Mayoden, NC: July 30, 2005.

The following certification has been issued. The requirement of downstream producer to a trade certified firm has been met.

None

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department has determined that criterion (2) of Section 246 has not been met. Workers at the firm possess skills that are easily transferable.

TA-W-57,954; Wausau Paper Corp., Brokaw, WI.

TA-W-58,004; Pebb Manufacturing Co., Inc., Mifflintown, PA.

The Department has determined that criterion (1) of Section 246 has not been met. Workers at the firm are 50 years of age or older.

None

Since the workers are denied eligibility to apply for TAA, the workers cannot be certified eligible for ATAA.

TA-W-57,814; Leviton Manufacturing, Southern Devices Division, Morganton, NC.

TA-W-57,904A; Luhr Jensen and Sons, Inc., Smoker Products Division, Oak Grove Plant, Hood River, OR.

TA-W-57,927; Hamtech, Inc., Big Rapids, MI.

TA-W-57,961; Holyoke Card Co., Springfield, MA.

TA-W-57,970; Kellwood New England, Brockton, MA.

TA-W-57,974; Baltrans Global Logistics, Ltd., Including Workers of ADECCO Temporary Services, Ft. Collins, CO.

TA-W-57,975; TRW Automotive, Linkage, Suspension & Cast Products Division, Kingsway Plant, Fremont, OH.

TA-W-57,995; Hostmann—Steinberg, Pittsburgh Office, Hostmann-Steinberg, Pittsburgh, PA.

TA-W-58,022; Meadow River Hardwood Lumber Company, Formerly Georgia-Pacific Corp., Rainelle, WV.

TA-W-58,080; Stratex Networks, San Jose, CA.

TA-W-58,086; Total Distribution, Inc., Nitro Corporation Subdivision, Nitro, WV.

TA-W-58,130; ATA Airlines, Inc., A Subsidiary of ATA Holdings Corp., Los Angeles Maintenance, Los Angeles, CA.

TA-W-58,130A; ATA Airlines, Inc., A Subsidiary of ATA Holdings Corp., San Francisco Maintenance, San Francisco, CA.

TA-W-58,130B; ATA Airlines, Inc., A Subsidiary of ATA Holdings Corp., Denver Maintenance, Denver, CO.

TA-W-58,130C; ATA Airlines, Inc., A Subsidiary of ATA Holdings Corp., Chicago-Midway Maintenance, Chicago, IL.

TA-W-58,130D; ATA Airlines, Inc., A Subsidiary of ATA Holdings Corp., Indianapolis Maintenance, Indianapolis, IN.

TA-W-58,130E; ATA Airlines, Inc., A Subsidiary of ATA Holdings Corp., Minneapolis Maintenance, Minneapolis, MN.

TA-W-58,130F; ATA Airlines, Inc., A Subsidiary of ATA Holdings Corp., New York Maintenance, New York, NY.

TA-W-58,130G; ATA Airlines, Inc., A Subsidiary of ATA Holdings Corp., San Juan Maintenance, San Juan, PR.

TA-W-58,130H; ATA Airlines, Inc., A Subsidiary of ATA Holdings Corp., Dallas, Ft. Worth Maintenance, Dallas, TX.

TA-W-58,144; General Electric Company, Industrial Motors & Controls Customer Service, Fort Wayne, IN.

TA-W-58,156; Furukawa Electric North American APD, Inc., Plymouth, MI.

The Department has determined that criterion (3) of Section 246 has not been met. Competition conditions within the workers' industry are not adverse.

None

Affirmative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-58,115; Amphenol Interconnect Products, Prime Time Staffing, Staff Works, Rockwall, TX; October 10, 2004.

TA-W-57,860; Beagle Brand Hosiery, Inc., Hickory, NC; August 23, 2004.

TA-W-57,904; Luhr Jensen and Sons, Inc., Fishing Tackle Division, Jentech Plant, Hood River, OR: September 7, 2004.

TA-W-57,923; Boise Cascade, d/b/a Boise Building Solutions Manufacturing, Independence, OR; September 6, 2004.

TA-W-57,944; National Tool and Manufacturing, Kenilworth, NJ; September 12, 2004.

TA-W-57,973; Tower Automotive, Kendallville Division, Kendallville, IN; September 6, 2004.

TA-W-57,986; Bravo Sports, On-Site Leased Workers of Select Personnel, Cypress, CA; September 19, 2004.

TA-W-58,001; Lea Industries, LA-Z-Boy Greensboro, Inc., Morristown, TN; September 16, 2004.

TA-W-58,009; Schuessler Knitting Mills, Inc., Chicago, IL; September 1, 2004.

TA-W-58,053; LA-Z-Boy Greensboro, Inc., Lea Industries and American Drew, On-Site Leased Workers of Kelly Temporary, N. Wilkesboro, NC; September 22, 2004.

TA-W-58,069; All Best, Inc., New York, NY; September 7, 2004.

TA-W-58,147; Valley Woodworking Company, Lenoir, NC; October 17, 2004.

TA-W-58,166; Penn-Union Corp., All Seasons Placement & Volt Temporary, Edinboro, PA; October 6, 2004.

TA-W-57,957; Dana Corporation, Jefferson Street Foundry, Perfect Circle, IBM Bus., Muskegon, MI; September 12, 2004.

TA-W-57,957A; Dana Corporation, Harvey Street Machining, IBM Bus., Muskegon, MI; September 12, 2004.

TA-W-57,957B; Dana Corporation, Machine and Tool Center, IBM Bus., Muskegon, MI; September 12, 2004.

TA-W-57,957C; Dana Corporation, Sanford Street Machining, Perfect Circle, IBM Bus., Muskegon, MI; September 12, 2004.

TA-W-57,960; Solectron Corp., Solectron USA, Inc., Lumberton, NJ; September 14, 2004.

TA-W-58,035; Eastman Kodak Company, Rochester Paper Flow Division, On-Site Leased Workers From Datros, Burns & Aec, Rochester, NY; September 26, 2004.

TA-W-58,067; Yoder Brothers, Inc., Chualar, CA; September 25, 2004.

TA-W-57,977; Carolina Mills, Inc., Plant #8, Maiden, NC; October 21, 2005.

I hereby certify that the aforementioned determinations were issued during the month of October 2005. Copies of these determinations are available for inspection in Room C-5311, U.S. Department of Labor, 200 Constitution Avenue, NW., Washington, DC 20210 during normal business hours or will be mailed to persons who write to the above address.

Dated: November 8, 2005.
Erica R. Cantor,
Director, Division of Trade Adjustment Assistance.

[FR Doc. E5-6321 Filed 11-15-05; 8:45 am]

BILLING CODE 4510-30-P